DEPARTMENT OF JUSTICE

Parole Commission

Sunshine Act Meeting

TIME AND DATE: 1 p.m. Tuesday, July 13, 2021.

PLACE: U.S. Parole Commission, 90 K Street NE, 3rd Floor, Washington, DC.

STATUS: Open.

MATTERS TO BE CONSIDERED:

1. Briefing on status of military transfer.

2. Discussion on modifying Rules and Procedures at § 2.207.

3. Original Jurisdiction regulation.

4. Possible revision of 28 CFR 2.77.

5. Possible revision of 28 CFR 2.28.

6. Witness testimony by videoconference.

7. Possible revision of 28 CFR 2.34.

CONTACT PERSON FOR MORE INFORMATION: Jacqueline Graham, Staff Assistant to the Chairman, U.S. Parole Commission, 90 K Street NE, 3rd Floor, Washington, DC 20530, (202) 346-7010.

Dated: July 1, 2021.
Patricia K. Cushwa,
Acting Chairperson, U.S. Parole Commission.

[FR Doc. 2021-14485 Filed 7-1-21; 4:15 pm]

BILLING CODE 4410-31-P